FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Airlift Logistic (USA) Inc., 40 Brunswick Avenue, Suite 204, Edison, NJ 08817, Officers: Vibha Murthy, President (Qualifying Individual), Swaminathan Ramadas, Director.

CDC Caribe, Inc. dba CDC, 2000 Kennedy Avenue, Suite 201, San Juan, Puerto Rico 00920, Officers: Richard M. Pujol, Vice President (Qualifying Individual), Massimo Lolli, President.

Nibeco Shipping & Transport, Inc., 1105 Birchwood Lane, Roswell, GA 30076, Officers: Christian G. Bekkers, President (Qualifying Individual), Dirk Duchateau, Vice President.

CSL Servotech LLC, 152-31 134th Avenue, Jamaica, NY 11434, Officers: Sherrie Stevenson, Vice President (Qualifying Individual), Alamdar Hussain, President.

Dart Cargoways India Private Limited, 274 Marlin Street, Huntington Station, NY 11746, Officers: Prasad Prabhakar Gokhale, CEO (Qualifying Individual), D. R. Shete, Managing Director.

Non-Vessel Operating Common Carrier and Ocean Freight Forwarder Transportation Intermediary Applicants

Commercial Cargo Carriers, Inc., 3305 Spring Mountain Road, #24, Las Vegas, NV 89102, Officers: Gregory A. Batulanon, Vice President (Qualifying Individual), Louis Fornarotto, President.

Speed of Sound, 84 Coit Street, Irvington, NJ 07111, Officer: Jon Nevins, President (Qualifying Individual).

All Merit Express, Inc., 19702 Miguel Avenue, Cerritos, CA 90703, Officers: Won Ik Lee, President (Qualifying Individual).

Dated: August 1, 2003.
Bryant L. VanBrakle,
Secretary.

[FR Doc. 03-20068 Filed 8-6-03; 8:45 am]

BILLING CODE 6730-01-P